DEPARTMENT OF COMMERCE

Foreign-Trade Zones Board

[S-51-2023]

Foreign-Trade Zone 265; Application for Subzone; Bollore Logistics USA, Inc.; Conroe, Texas

An application has been submitted to the Foreign-Trade Zones (FTZ) Board by the City of Conroe, grantee of FTZ 265, requesting subzone status for the facility of Bollore Logistics USA, Inc., located in Conroe, Texas. The application was submitted pursuant to the provisions of the Foreign-Trade Zones Act, as amended (19 U.S.C. 81a-81u), and the regulations of the FTZ Board (15 CFR part 400). It was formally docketed on March 23, 2023.

The proposed subzone (15 acres) is located at 3400 Interstate 45 North, Conroe, Texas. No authorization for production activity has been requested at this time. The proposed subzone would be subject to the existing activation limit of FTZ 265.

In accordance with the FTZ Board's regulations, Camille Evans of the FTZ Staff is designated examiner to review the application and make recommendations to the Executive Secretary.

Public comment is invited from interested parties. Submissions shall be addressed to the FTZ Board's Executive Secretary and sent to: ftz@trade.gov. The closing period for their receipt is May 8, 2023. Rebuttal comments in response to material submitted during the foregoing period may be submitted during the subsequent 15-day period to May 22, 2023.

A copy of the application will be available for public inspection in the “Online FTZ Information Section” section of the FTZ Board's website, which is accessible via www.trade.gov/ftz.

For further information, contact Camille Evans at Camille.Evans@trade.gov.

Dated: March 23, 2023.
Elizabeth Whiteman,
Acting Executive Secretary.

[FR Doc. 2023-06369 Filed 3-27-23; 8:45 am]

BILLING CODE 3510-DS-P